DEPARTMENT OF LABOR

Employment and Training Administration

[TA-W-73,843]

Hasbro, Inc.; Hasbro Managerial Services, Inc., Including On-Site Leased Workers of Entegee East Longmeadow, MA

Amended Certification Regarding Eligibility To Apply for Worker Adjustment Assistance

In accordance with Section 223 of the Trade Act of 1974, as amended (“Act”), 19 U.S.C. § 2273, the Department of Labor issued a Certification of Eligibility to Apply for Worker Adjustment Assistance on July 7, 2010, applicable to workers and former workers of Hasbro, Inc., Hasbro Managerial Services, Inc., East Longmeadow, Massachusetts. The subject firm was engaged in activities related to the production of board games, card games, puzzles, and toys.

At the request of the Commonwealth of Massachusetts, the Department reviewed the certification.

New information revealed that employees of Entegee worked on-site at the subject firm during the relevant period and that the subject firm had sufficient control over the leased workers for the Department to determine that there was operational control of the leased workers by the subject firm.

The amended notice applicable to TA-W-73,843 is hereby issued as follows:

All workers of Hasbro, Inc., Hasbro Managerial Services, Inc., including on-site leased workers of Entegee, East Longmeadow, Massachusetts, who became totally or partially separated from employment on or after February 22, 2010, through July 7, 2012, and all workers in the group threatened with total or partial separation from employment on July 7, 2012 through July 7, 2012, are eligible to apply for adjustment assistance under Chapter 2 of Title II of the Trade Act of 1974, as amended.

Signed in Washington, DC, this 20th day of September, 2012.
Del Min Amy Chen,
Certifying Officer, Office of Trade Adjustment Assistance.

[FR Doc. 2012-24558 Filed 10-4-12; 8:45 am]

BILLING CODE 4510-FN-P